DEPARTMENT OF ENERGY

10 CFR Part 431

[EERE-2019-BT-TP-0025]

RIN 1904-AE55

Energy Conservation Program: Test Procedures for Commercial Prerinse Spray Valves

AGENCY: Office of Energy Efficiency and Renewable Energy, Department of Energy.

ACTION: Reopening of public comment period.

SUMMARY: The U.S. Department of Energy (“DOE”) is reopening the public comment period for its Request for Information (“RFI”) regarding test procedures for commercial prerinse spray valves. DOE published the RFI in the Federal Register on June 5, 2020, establishing a 30-day public comment period that ended on July 6, 2020. On June 25, 2020, DOE received a comment requesting extension of the comment period by 30 days. DOE is reopening the public comment period for submitting comments for an additional 30 days.

DATES: The comment period for the RFI published on June 5, 2020 (85 FR 34541), is re-opened. DOE will accept comments, data, and information regarding this RFI received no later than August 20, 2020.

ADDRESSES: Interested persons are encouraged to submit comments, identified by docket number EERE-2019-BT-TP-0025, by any of the following methods:

Federal eRulemaking Portal: http://www.regulations.gov. Follow the instructions for submitting comments.

Email: CPSV2019TP0025@ee.doe.gov. Include the docket number EERE-2019-BT-TP-0025 and/or RIN 1904-AE55 in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: For access to the docket to read background documents, or comments received, go to the Federal eRulemaking Portal at http://www.regulations.gov/#!docketDetail;D=EERE-2019-BT-TP-0025.

The docket, which includes Federal Register notices, public meeting attendee lists and transcripts, comments, and other supporting documents/materials, is available for review at http://www.regulations.gov. All documents in the docket are listed in the http://www.regulations.gov index. However, some documents listed in the index may not be publicly available, such as those containing information that is exempt from public disclosure.

The docket web page can be found at: http://www.regulations.gov/#!docketDetail;D=EERE-2019-BT-TP-0025. The docket web page contains instructions on how to access all documents, including public comments, in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Kathryn McIntosh, U.S. Department of Energy, Office of the General Counsel, GC-33, 1000 Independence Avenue SW, Washington, DC 20585-0121. Telephone: (202) 586-2002. Email: Kathryn.McIntosh@hq.doe.gov.

For further information on how to submit a comment or review other public comments and the docket contact the Appliance and Equipment Standards Program staff at (202) 287-1445 or by email: ApplianceStandardsQuestions@ee.doe.gov.

SUPPLEMENTARY INFORMATION: On June 5, 2020, DOE published a RFI in the Federal Register soliciting public comment on its test procedures for commercial prerinse spray valves. 85 FR 34541. Comments were originally due on July 6, 2020. On June 25, 2020, DOE received a comment from Plumbing Manufacturers International (“PMI”) requesting extension of the comment period by 30 days due to the need for more detailed feedback from its members to inform PMI's comments.¹ PMI stated that feedback has been difficult to obtain due to the current pandemic and related business impacts and priorities. DOE has reviewed the request and considered the benefit to stakeholders in providing additional time to review the RFI and gather information/data that DOE is seeking. Accordingly, DOE has determined that a re-opening of the comment period is appropriate, and will accept comments until August 20, 2020. DOE will consider any comments received from July 6, 2020 through the end of the comment period to be timely submitted. DOE feels that the additional time provided is adequate for stakeholders to respond to the RFI.

¹ DOE has posted this comment to the docket at https://www.regulations.gov/document?D=EERE-2019-BT-TP-0025-0002.

Signing Authority

This document of the Department of Energy was signed on July 7, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 8, 2020.
Treena V. Garrett,
Federal Register Liaison Officer, U.S. Department of Energy.

[FR Doc. 2020-15002 Filed 7-20-20; 8:45 am]

BILLING CODE 6450-01-P